DEPARTMENT OF HOUSING AND URBAN DEVELOPMENT

[Docket No. FR-4730-N-05]

Federal Property Suitable as Facilities To Assist the Homeless

AGENCY: Office of the Assistant Secretary for Community Planning and Development, HUD.

ACTION: Notice.

SUMMARY: This notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234; TTY number for the hearing- and speech-impaired, (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: DOT: Mr. Rugene Spruill, Space Management, SVC-140, Transportation Administrative Service Center, Department of Transportation 400 7th Street, SW., Room 2310, Washington, DC 20590; (202) 366-4246; ENERGY: Mr. Tom Knox, Department of Energy, Office of Engineering & Construction Management, CR-80, Washington, DC 20585; (202) 586-8715; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: January 24, 2002.
John D. Garrity,
Directors, Office of Special Needs, Assistance Programs.

TITLE V, FEDERAL SURPLUS PROPERTY PROGRAM FEDERAL REGISTER REPORT FOR 2/1/02

Unsuitable Properties

Buildings (by State)

Alaska

Bldgs. T03, T04, 002

Loran Station

Kodiak Co: Kodiak Island AK 99619-

Landholding Agency: DOT

Property Number: 87200210006

Status: Excess

Reason: Extensive deterioration

California

Bldg. PM54

Naval Air Station

Point Mugu Co: Ventura CA 93042-5000

Landholding Agency: Navy

Property Number: 77200210001

Status: Unutilized

Reason: Extensive deterioration

Bldg. PM56

Naval Air Station

Point Mugu Co: Ventura CA 93042-5000

Landholding Agency: Navy

Property Number: 77200210002

Status: Unutilized

Reason: Extensive deterioration

Bldg. PM754

Naval Air Station

Point Mugu Co: Ventura CA 93042-5000

Landholding Agency: Navy

Property Number: 77200210003

Status: Unutilized

Reason: Extensive deterioration

Bldg. PM777

Naval Air Station

Point Mugu Co: Ventura CA 93042-5000

Landholding Agency: Navy

Property Number: 77200210004

Status: Unutilized

Reason: Extensive deterioration

Bldg. PM7007

Naval Air Station

Point Mugu Co: Ventura CA 93042-5000

Landholding Agency: Navy

Property Number: 77200210005

Status: Unutilized

Reason: Extensive deterioration

Bldg. 303

Naval Weapons Station

Fallbrook Co: CA 92028-3187

Landholding Agency: Navy

Property Number: 77200210006

Status: Unutilized

Reason: Extensive deterioration

Bldg. 1233

Marine Corps Base

Camp Pendleton Co: CA 92055-

Landholding Agency: Navy

Property Number: 77200210007

Status: Excess

Reason: Extensive deterioration

Bldg. 1345

Marine Corps Base

Camp Pendleton Co: CA 92055-

Landholding Agency: Navy

Property Number: 77200210008

Status: Excess

Reason: Extensive deterioration

Bldg. 1643

Marine Corps Base

Camp Pendleton Co: CA 92055-

Landholding Agency: Navy

Property Number: 77200210009

Status: Excess

Reason: Extensive deterioration

Bldg. 1644

Marine Corps Base

Camp Pendleton Co: CA 92055-

Landholding Agency: Navy

Property Number: 77200210010

Status: Excess

Reason: Extensive deterioration

Bldg. 1672

Marine Corps Base

Camp Pendleton Co: CA 92055-

Landholding Agency: Navy

Property Number: 77200210011

Status: Excess

Reason: Extensive deterioration

Bldg. 1673

Marine Corps Base

Camp Pendleton Co: CA 92055-

Landholding Agency: Navy

Property Number: 77200210012

Status: Excess

Reason: Extensive deterioration

Bldg. 2669

Marine Corps Base

Camp Pendleton Co: CA 92055-

Landholding Agency: Navy

Property Number: 77200210013

Status: Excess

Reason: Extensive deterioration

Bldg. 13116

Marine Corps Base

Camp Pendleton Co: CA 92055-

Landholding Agency: Navy

Property Number: 77200210014

Status: Excess

Reason: Extensive deterioration

Bldg. 6

Navy Marine Corps Rsv Ctr

Sacramento Co: CA 95828-

Landholding Agency: Navy

Property Number: 77200210017

Status: Unutilized

Reason: Secured Area

Bldg. 30

Coast Guard Group

One Yerba Buena Island

San Francisco Co: CA 94118-

Landholding Agency: DOT

Property Number: 87200210007

Status: Underutilized

Reasons: Within 2000 ft. of flammable or explosive material; Secured Area

Bldg. 40

Coast Guard Group

One Yerba Buena Island

San Francisco Co: CA 94118-

Landholding Agency: DOT

Property Number: 87200210008

Status: Unutilized

Reasons: Within 2000 ft. of flammable or explosive material; Secured Area

Bldg. 75

Coast Guard Group

One Yerba Buena Island

San Francisco Co: CA 94118-

Landholding Agency: DOT

Property Number: 87200210009

Status: Underutilized

Reasons: Within 2000 ft. of flammable or explosive material; Secured Area

Bldg. 270

Coast Guard Group

One Yerba Buena Island

San Francisco Co: CA 94118-

Landholding Agency: DOT

Property Number: 87200210010

Status: Unutilized

Reasons: Within 2000 ft. of flammable or explosive material; Secured Area

Pennsylvania

Bldg. 43

Naval Foundry & Propeller Center

Philadelphia Co: PA 19112-

Landholding Agency: Navy

Property Number: 77200210015

Status: Excess

Reason: Extensive deterioration

Bldg. 53

Naval Foundry & Propeller Center

Philadelphia Co: PA 19112-

Landholding Agency: Navy

Property Number: 77200210016

Status: Excess

Reason: Extensive deterioration.

Tennessee

Bldg. 9949-31

Y-12 Natl Security Complex

Oak Ridge Co: Anderson TN 37831-

Landholding Agency: Energy

Property Number: 41200210001

Status: Unutilized

Reason: Secured Area

Bldg. SC-14

ORISE Scarboro Operations Site

Oak Ridge Co: Anderson TN 37831-

Landholding Agency: Energy

Property Number: 41200210002

Status: Excess

Reason: Secured Area

[FR Doc. 02-2178 Filed 1-31-02; 8:45 am]

BILLING CODE 4210-29-M